DEPARTMENT OF ENERGY

Federal Energy Regulatory Commission

Combined Notice of Filings #1

Take notice that the Commission received the following electric rate filings:

Docket Numbers: ER16-644-000.

Applicants: Entergy Arkansas, Inc.

Description: Response of Entergy Arkansas Inc. to February 26, 2016 Deficiency Letter.

Filed Date: 3/8/16.

Accession Number: 20160308-5260.

Comments Due: 5 p.m. ET 3/29/16.

Docket Numbers: ER16-806-001.

Applicants: Nassau Energy, LLC.

Description: Tariff Amendment: Supplement to MBR Application & Request for Shortened Comment Period to be effective 3/27/2016.

Filed Date: 3/8/16.

Accession Number: 20160308-5205.

Comments Due: 5 p.m. ET 3/29/16.

Docket Numbers: ER16-1100-000.

Applicants: Cambria CoGen Company.

Description: Request for Limited Temporary Waiver of Cambria Cogen Company.

Filed Date: 3/7/16.

Accession Number: 20160307-5210.

Comments Due: 5 p.m. ET 3/21/16.

Docket Numbers: ER16-1103-000.

Applicants: East Kentucky Power Cooperative, Inc.

Description: Request for Limited Temporary Waiver of East Kentucky Power Cooperative, Inc.

Filed Date: 3/7/16.

Accession Number: 20160307-5255.

Comments Due: 5 p.m. ET 3/21/16.

Docket Numbers: ER16-1116-000.

Applicants: Midcontinent Independent System Operator, Inc., ALLETE, Inc.

Description: Notice of Cancellation of Midcontinent Independent System Operator, Inc. for Network Integration Transmission Service Agreement Between ALLETE, Inc. and Great River Energy.

Filed Date: 3/8/16.

Accession Number: 20160308-5259.

Comments Due: 5 p.m. ET 3/29/16.

Docket Numbers: ER16-1117-000.

Applicants: Flanders Energy LLC.

Description: Notice of cancellation of market based rate tariff of Flanders Energy, LLC.

Filed Date: 3/8/16.

Accession Number: 20160308-5263.

Comments Due: 5 p.m. ET 3/29/16.

Docket Numbers: ER16-1119-000.

Applicants: Castlebridge Energy Group LLC.

Description: Castlebridge Energy Group, LLC submits notification of cancellation of its market based rate tariff.

Filed Date: 3/8/16.

Accession Number: 20160309-0001.

Comments Due: 5 p.m. ET 3/29/16.

Docket Numbers: ER16-1120-000.

Applicants: Midcontinent Independent System Operator, Inc.

Description: Section 205(d) Rate Filing: 2016-03-09_Attachment X External NRIS Filing to be effective 3/10/2016.

Filed Date: 3/9/16.

Accession Number: 20160309-5066.

Comments Due: 5 p.m. ET 3/30/16.

Docket Numbers: ER16-1123-000.

Applicants: Shelby County Energy Center, LLC.

Description: Section 205(d) Rate Filing: Notice of Succession to Reactive Tariff to be effective 3/1/2016.

Filed Date: 3/9/16.

Accession Number: 20160309-5092.

Comments Due: 5 p.m. ET 3/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2016.
Nathaniel J. Davis, Sr.,
Deputy Secretary.

[FR Doc. 2016-05771 Filed 3-14-16; 8:45 am]

BILLING CODE 6717-01-P